DEPARTMENT OF THE INTERIOR

Fish and Wildlife Service

Endangered Species Recovery Permit Applications

AGENCY: Fish and Wildlife Service, Interior.

ACTION: Notice of receipt of permit applications.

SUMMARY: We invite the public to comment on the following application to conduct certain activities with endangered species.

DATES: Comments on these permit applications must be received on or before March 15, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents to the address above. Please refer to the respective permit number for each application when requesting copies of documents.

SUPPLEMENTARY INFORMATION: The following applicants have applied for a scientific research permit to conduct certain activities with endangered species pursuant to section 10(a)(1)(A) of the Endangered Species Act (16 U.S.C. 1531 et seq.). The U.S. Fish and Wildlife Service (we) solicits review and comment from local, State, and Federal agencies, and the public on the following permit requests.

Permit No. TE-115370

Applicant: Gage Dayton, Moss Landing, California.

The applicant requests a permit to take (harass by survey, capture, handle, and release) the Santa Cruz long-toed salamander (Ambystoma macrodactylum croceum) and the California tiger salamander (Ambystoma californiense) in conjunction with surveys in Santa Cruz and Monterey Counties in California for the purpose of enhancing their survival.

Permit No. TE-115373

Applicant: Darin Busby, San Diego, California.

The applicant requests a permit to take (capture and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis), and take (survey by pursuit) the Quino checkerspot butterfly (Euphydryas editha quino) in conjunction with surveys throughout the range of each species in California for the purpose of enhancing their survival.

Permit No. TE-115725

Applicant: Ellen Howard, San Diego, California.

The applicant requests a permit to take (capture and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-797999

Applicant: Merkel & Associates, Inc., San Diego, California.

The permittee requests an amendment to take (harass by survey, tag, collect tissue, mark by toe-clipping, and release) the desert slender salamander (Batrachoseps aridus) and the arroyo southwestern toad (Bufo microscaphus californicus), take (harass by survey, capture, handle, collect, release) the unarmored threespine stickleback (Gasterosteus aculeatus williamsoni), take (harass by survey, capture, handle, and release) the tidewater goby (Eucyclogobius newberryi), take (locate and monitor nests) the least Bell's vireo (Vireo bellii pusillus), and take (locate and monitor nests, capture, handle, weigh, band, and release) the California least tern (Sterna antillarum browni) and the light-footed clapper rail (Rallus longirostris levipes) in conjunction with surveys throughout the range of each species in California for the purpose of enhancing their survival.

Permit No. TE-117075

Applicant: Richard Stabler, Santa Rosa, California.

The applicant requests a permit to take (harass by survey, capture, handle, and release) the California tiger salamander (Ambystoma californiense) and the California freshwater shrimp (Syncaris pacifica) in conjunction with surveys in Sonoma County, California for the purpose of enhancing their survival.

Permit No. TE-795934

Applicant: Jones and Stokes Associates, Inc., Sacramento, California.

The permittee requests an amendment to take (harass by survey, capture, handle, and release) the California tiger salamander (Ambystoma californiense) in conjunction with surveys throughout its range in California for the purpose of enhancing its survival.

Permit No. TE-117947

Applicant: Kevin B. Clark, San Diego, California.

The applicant requests a permit to take (locate and monitor nests) the least Bell's vireo (Vireo bellii pusillus), take (locate and monitor nests, capture, handle, and release) the California least tern (Sterna antillarum browni), and the southwestern willow flycatcher (Empiconax traillii extimus) in conjunction with surveys throughout the range of each species in California, Arizona, and New Mexico for the purpose of enhancing their survival.

Permit No. TE-118371

Applicant: K2 Environmental LLC, Bend, Oregon.

The applicant requests a permit to take (locate and monitor nests) the least Bell's vireo (Vireo bellii pusillus) in conjunction with surveys throughout the range of the species in California for the purpose of enhancing its survival.

Permit No. TE-118338

Applicant: Jana Johnson, Winnetka, California.

The applicant requests a permit to take (captively rear) the Palos Verdes blue butterfly (Gaucopsyche lygdamus palosverdesensis) in conjunction with a breeding program in Los Angeles County, California, for the purpose of enhancing its survival.

Permit No. TE-118356

Applicant: Olofson Environmental, Inc., Oakland, California.

The applicant requests a permit to take (harass by survey, locate and monitor nests) the California clapper rail (Rallus longirostris obsoletus) in conjunction with demographic studies throughout the range of the species in California for the purpose of enhancing its survival.

Permit No. TE-068072

Applicant: Philippe Vergne, Ramona, California.

The permittee requests an amendment to take (capture, handle, mark, and release) the Stephens' kangaroo rat (Dipodomys stephensi) in conjunction with demographic studies throughout the range of the species in California for the purpose of enhancing its survival.

We solicit public review and comment on each of these recovery permit applications.

Dated: January 19, 2006.
Michael B. Fris,
Acting Manager, California/Nevada Operations Office, U.S. Fish and Wildlife Service.

[FR Doc. E6-1939 Filed 2-10-06; 8:45 am]

BILLING CODE 4310-55-P